DEPARTMENT OF HEALTH AND HUMAN SERVICES

Administration for Children and Families

Awards to Eleven Office of Refugee Resettlement Shelter Care Providers

AGENCY: Office of Refugee Resettlement, Administration for Children and Families, HHS.

ACTION: Notice of Grant Awards.

CFDA #: 93.676

SUMMARY: This notice is hereby given that an award will be made to an unaccompanied alien shelter care provider, Southwest Regional Youth Village, Vincennes, Indiana, in the amount of $586,719. This funding will support services through September 30, 2008.

This funding will support the expansion of secure program bed capacity to meet the number of unaccompanied alien children referrals from the Department of Homeland Security (DHS).

The program is mandated by section 462 of the Homeland Security Act to ensure appropriate placement of all referrals from the DHS. ORR's ability to meet this mandate is often a challenge since the program is completely tied to DHS interior apprehension strategies and the sporadic number of border crossers.

The program has very specific requirements for the provision of services. This grantee is one of the only entities with the infrastructure, licensing, experience and appropriate level of trained staff to meet the service requirements for secure capacity. The program's ability to meet the number of secure referrals from DHS can only be accommodated through the expansion of this program through the supplemental award process.

FOR FURTHER INFORMATION CONTACT: Kenneth Tota, Office of Refugee Resettlement, Administration for Children and Families, 370 L'Enfant Promenade, SW., Washington, DC, 20447, telephone (202) 401-4858.

Dated: January 17, 2008.
Brent Orrell,
Acting Director, Office of Refugee Resettlement.

[FR Doc. E8-1360 Filed 1-25-08; 8:45 am]

BILLING CODE 4184-01-P